DEPARTMENT OF COMMERCE

National Oceanic and Atmospheric Administration

[RTID 0648-XF500]

Western Pacific Fishery Management Council; Public Meetings

AGENCY: National Marine Fisheries Service (NMFS), National Oceanic and Atmospheric Administration (NOAA), Commerce.

ACTION: Notice of public meetings.

SUMMARY: The Western Pacific Fishery Management Council (Council) will hold its Social Science Planning Committee (SSPC) meeting to discuss and make recommendations on fishery management issues in the Western Pacific Region.

DATES: The SSPC meeting will be held on February 12, 2026, from 12 p.m. to 5 p.m., HST. See SUPPLEMENTARY INFORMATION for the agenda.

ADDRESSES: The SSPC meeting will be held as a hybrid meeting for members and the public, with a remote participation option available via Webex. In-person attendance will be hosted at the Council office, 1164 Bishop Street, Suite 1400, Honolulu, HI 96813.

Instructions for connecting to the web conference and providing oral public comments will be posted on the Council website at www.wpcouncil.org. For assistance with the web conference connection, contact the Council office at (808) 522-8220.

FOR FURTHER INFORMATION CONTACT: Kitty M. Simonds, Executive Director, Western Pacific Fishery Management Council; telephone: (808) 522-8220.

SUPPLEMENTARY INFORMATION: A public comment period will be provided in the agenda. The order in which agenda items are addressed may change. The meeting will run as late as necessary to complete scheduled business.

Agenda for the SSPC Meeting

Thursday, February 12, 2026, 12 p.m. to 5 p.m., HST

1. Welcome and Introductions

2. Approval of Agenda

3. Social, Economic, Ecological, and Management Process Review Working Group Report

4. SSPC Role Working Group Report

5. Annual Stock Assessment and Fishery Evaluation Report Human Dimensions Module Changes

6. Review of Magnuson-Stevens Fishery Conservation and Management Act Research Priorities

7. Project Updates

8. Other Business

9. Public Comment

10. Discussion and Recommendations

Special Accommodations

These meetings are physically accessible to people with disabilities. Requests for sign language interpretation or other auxiliary aids should be directed to Kitty M. Simonds, (808) 522-8220 (voice) or (808) 522-8226 (fax), at least 5 days prior to the meeting date.

Authority: 16 U.S.C. 1801 et seq.

Dated: January 30, 2026.
Becky J. Curtis,
Acting Deputy Director, Office of Sustainable Fisheries, National Marine Fisheries Service.

[FR Doc. 2026-02194 Filed 2-2-26; 8:45 am]

BILLING CODE 3510-22-P